DEPARTMENT OF TRANSPORTATION

Office of the Secretary

Notice of Applications for Certificates of Public Convenience and Necessity and Foreign Air Carrier Permits Filed Under Subpart B (Formerly Subpart Q) During the Week Ending February 1, 2008

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-1997-3077.

Date Filed: January 29, 2008.

Due Date for Answers, Conforming Applications, or Motion To Modify Scope:February 19, 2008.

Description: Application of Servicios Aereos Profesionales, S.A., requesting renewal of its exemption and a foreign air carrier permit enabling it to conduct charter foreign air transportation of persons and property between the Dominican Republic and the United States.

Docket Number: DOT-OST-2000-6796.

Date Filed: January 29, 2008.

Due Date for Answers, Conforming Applications, or Motion To Modify Scope:February 19, 2008.

Description: Application of Aerolineas Santo Domingo, SA., requesting renewal of its exemption and a foreign air carrier permit to conduct scheduled foreign air transportation of persons, property and mail between the Dominican Republic and the United States.

Docket Number: DOT-OST-2007-28073.

Date Filed: January 28, 2008.

Due Date for Answers, Conforming Applications, or Motion To Modify Scope:February 19, 2008.

Description: Application of Star Air A/S, requesting an amendment to its existing foreign air carrier permit to incorporate the new rights made available to European air carriers pursuant to the Air Transport Agreement between the United States and the European Community and the Member States of the European Union (“U.S.-EU Agreement”), and related exemption authority to enable it to provide the services covered while the Department evaluates Star Air's application to amend its foreign air carrier permit.

Docket Number: DOT-OST-2008-0043.

Date Filed: January 30, 2008.

Due Date for Answers, Conforming Applications, or Motion To Modify Scope:February 19, 2008.

Description: Application of Iberia Lineas Aereas de Espana, S.A. (“Iberia”), requesting an amendment to its foreign air carrier permit to engage in: (1) Scheduled and charter foreign air transportation of persons, property and mail from any point or points behind any Member State of the European Union via any point or points in any Member State and via intermediate points to any point or points in the United States and beyond; (2) scheduled and charter foreign air transportation of persons, property and mail between any point or points in any member of the European Common Aviation Area and any point or points in the United States; (3) scheduled and charter all-cargo foreign air transportation between any point or points in the United States and any other point or points; (4) other charters subject to the Department's regulations; and (5) transportation authorized by any additional route rights made available to European Community airlines in the future. Iberia also requests exemption authority to enable it to engage in the above-described operations pending issuance of an amended foreign air carrier permit.

Docket Number: DOT-OST-2008-0046.

Date Filed: January 29, 2008.

Due Date for Answers, Conforming Applications, or Motion To Modify Scope:February 19, 2008.

Description: Application of Cargolux Airlines International, S.A., requesting an exemption and amended foreign air carrier permit to the full extent authorized by the new Air Transport Agreement between the United States and the European Community and exemption authority to conduct these services pending the issuance of an amended foreign air carrier permit.

Renee V. Wright,
Program Manager, Docket Operations, Federal Register Liaison.

[FR Doc. E8-12895 Filed 6-10-08; 8:45 am]

BILLING CODE 4910-9X-P